DEPARTMENT OF THE INTERIOR

National Park Service

[NPS-WASO-NRSS-SSB-NPS0034735; PPWONRANDE2, PMP00E105.YP0000; OMB Control Number 1024-0224]

Agency Information Collection Activities; Programmatic Clearance for NPS-Sponsored Public Surveys

AGENCY: National Park Service, Interior.

ACTION: Notice of information collection; request for comment.

SUMMARY: In accordance with the Paperwork Reduction Act of 1995, we, the National Park Service (NPS) are proposing to renew an information collection with revisions.

DATES: Interested persons are invited to submit comments on or before May 26, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0224” in the subject line of your comments.

FOR FURTHER INFORMATION CONTACT: To request additional information about this ICR, contact Bret Meldrum by email at bret_meldrum@nps.gov or by telephone at 970-267-7295. Please reference OMB Control Number 1024-0224 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995, (PRA, 44 U.S.C. 3501 et seq.) and 5 CFR 1320.8(d)(1), all information collections require approval under the PRA. We may not conduct, or sponsor and you are not required to respond to a collection of information unless it displays a currently valid OMB control number.

A Federal Register notice with a 60-day public comment period soliciting comments on this collection of information was published on February 8, 2022 (87 FR 7206). No comments were received.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by the National Park Service Protection, Interpretation, and Research in System (54 U.S.C. 100701) statutes to collect information used to enhance the management and planning of parks and their resources. The NPS Social Science Program (SSP) relies heavily on this generic approval to submit survey requests to OMB in an expedited manner. This process significantly streamlines the information collection process in a manner that allows the NPS to submit at least 25 requests per year, which is 5 times as many requests that can be processed annually using the regular submission route.

The Programmatic Clearance applies to all NPS social science collections (e.g., questionnaires, focus groups, interviews, etc.) designed to furnish usable information to NPS managers and planners concerning visitor experiences, perceptions of services, programs, and planning efforts in areas managed by the NPS. To qualify for the NPS generic programmatic review process each information request must show clear ties to NPS management and planning needs in areas managed by the NPS or involve research that will directly benefit the NPS. The scope of the programmatic review process is limited to issues that are non-controversial or unlikely to attract significant public interest.

All collections must be reviewed by the NPS Social Science Program and approved by OMB before a collection is administered. The Pool of Known Questions (PKQ) serves as a collection of example questions. We acknowledge that the PKQ is not a comprehensive collection of all possible survey questions; therefore, we are requesting leeway to allow requestors to add park/research-specific questions not in the PKQ. However, all questions must fit within the scope of the approved Topic Areas. The Social Science Program will continue to conduct necessary reviews and quality control before submitting each information collection request to OMB for expedited review and approval before the collection is administered.

The submission materials contain the request for continued flexibility in survey design within the bounds of the requirements and guidelines for individual collections leveraging this clearance. The NPS is requesting the following updates and revisions for this clearance. The previously approved 11 Topic Areas and subcategories were reorganized and expanded. A climate change subcategory was added under Topic Area 8: Environmental Health and Resource Management. Topic Area 10 was renamed Environmental Justice and expanded to have the following subcategories: Constraints and Barriers; Diversity, Equity, and Inclusion; Accessibility; and Traditional Ecological Knowledge. Finally, the PKQ was streamlined to remove redundant questions. It was also reorganized to accommodate changes to the Topic Areas. Questions were added to the new subcategories and to existing sections throughout the PKQ to include question variations principal investigators and NPS staff requested over the last three years.

Title of Collection: Programmatic Clearance for NPS-Sponsored Public Surveys.

OMB Control Number: 1024-0224.

Form Number: Form 10-201.

Type of Review: Revision of a currently approved collection.

Respondents/Affected Public: Individuals/Households.

Total Estimated Number of Annual Respondents: 44,125 (depending on activity) Onsite Surveys—30,000; Mail-back Surveys—2,000; All Non-response surveys—5,000; Focus Groups/Interview—2,125; and On-line Survey—5,000.

Estimated Completion Time per Response: (depending on activity) onsite Surveys—15 minutes; Mail-back Surveys—20 minutes; All Non-response surveys—3 minutes; Focus Groups/Interview—60 minutes; and On-line Survey—15 minutes.

Total Estimated Number of Annual Burden Hours: 11,792 Hours (depending on activity) onsite Surveys—7500 hours; Mail-back Surveys—667 hours; All Non-response surveys—250 hours; Focus Groups/Interview—2125 hours; and On-line Survey—1250 hours.

Total Estimated Number of Annual Responses: 44,125 (depending on activity) Onsite Surveys—30,000; Mail-back Surveys—2,000; All Non-response surveys—5,000; Focus Groups/Interview—2,125; and On-line Survey—5,000.

Respondent's Obligation: Voluntary.

Frequency of Collection: On occasion.

Total Estimated Annual Nonhour Burden Cost: None.

An agency may not conduct, or sponsor, and a person is not required to respond to a collection of information unless it displays a currently valid OMB control number. The authority for this action is the Paperwork Reduction Act of 1995 (44 U.S.C. 3501 et seq.).

Phadrea Ponds,
Information Collection Clearance Officer, National Park Service.

[FR Doc. 2023-08555 Filed 4-25-23; 8:45 am]

BILLING CODE 4312-52-P